DEPARTMENT OF THE INTERIOR

National Park Service

[NPS-WASO-NAGPRA-11172; 2200-1100-665]

Notice of Inventory Completion for Native American Human Remains and Associated Funerary Objects in the Possession of the Department of Anthropology, San Francisco State University, San Francisco, CA; Correction

AGENCY: National Park Service, Interior.

ACTION: Notice; correction.

Notice is here given in accordance with the Native American Graves Protection and Repatriation Act (NAGPRA), 25 U.S.C. 3003, of the completion of an inventory of human remains and associated funerary objects in the control of San Francisco State University, San Francisco, CA. The human remains were removed from Tuolumne County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (65 FR 80957, December 22, 2000). These changes resulted from ongoing collections work.

In the Federal Register (65 FR 80957, December 22, 2000), paragraph four, sentence five is corrected by substituting the following sentence:

The 2 associated funerary objects are a projectile point and a piece of flaked stone.

In the Federal Register (65 FR 80957, December 22, 2000), paragraph five is corrected by substituting the following paragraph:

In 1970-71, human remains representing a minimum of 37 individuals were recovered from site CA-TUO-300, a site located near LaGrange, CA, during archaeological excavations conducted by San Francisco State University. The site area is now inundated by the new Don Pedro Reservoir. No known individuals were identified. The 49 associated funerary objects are 1 chert point and 48 pieces of flaked stone debitage.

In the Federal Register (65 FR 80957, December 22, 2000), paragraph six, sentence three is corrected by substituting the following sentence:

The 60 associated funerary objects are Olivella beads, bone tool fragments, flaked stone debitage, ground stone, and faunal materials, including modified and unmodified animal bones and teeth and modified bird bone.

In the Federal Register (65 FR 80957, December 22, 2000), paragraph eight is corrected by substituting the following paragraph:

Based on the above-mentioned information, officials of the Department of Anthropology, San Francisco State University have determined that, pursuant to 25 U.S.C. 3001(9), the human remains listed above represent the physical remains of 55 individuals of Native American ancestry. Officials of the Department of Anthropology have also determined that, pursuant to 25 U.S.C. 3001(3)(A), the 111 objects listed above are reasonably believed to have been placed with or near individual human remains at the time of death or later as part of the death rite or ceremony. Lastly, officials of the Department of Anthropology, San Francisco State University have determined that, pursuant to 25 U.S.C. 3001(2), there is a relationship of shared group identity that can be reasonably traced between these Native American human remains and associated funerary objects and the Tuolummne Band of Me-Wuk Indians of the Tuolumne Rancheria of California.

Additional Requestors and Disposition

Representatives of any Indian tribe that believes itself to be culturally affiliated with the human remains and associated funerary objects should contact Jeffrey Boland Fentress, San Francisco State University NAGPRA Program, c/o Department of Anthropology, San Francisco State University, 1600 Holloway Ave., San Francisco 94132, telephone (415) 338-3075, before October 29, 2012. Repatriation of the human remains and associated funerary objects to the Tuolumne Band of Me-Wuk Indians of the Tuolumne Rancheria of California and the Central Sierra Me-Wuk Cultural and Historic Preservation Committee may proceed after that date if no additional claimants come forward.

The San Francisco State University NAGPRA Program is responsible for notifying the Tuolumne Band of Me-Wuk Indians of the Tuolumne Rancheria of California and the Central Sierra Me-Wuk Cultural and Historic Preservation Committee that this notice has been published.

Dated: August 28, 2012.
Sherry Hutt,
Manager, National NAGPRA Program.

[FR Doc. 2012-23929 Filed 9-27-12; 8:45 am]

BILLING CODE 4312-50-P